DEPARTMENT OF THE INTERIOR

Bureau of Ocean Energy Management

[Docket No. BOEM-2024-0039]

Notice of Availability of Determination of Competitive Interest in Wind Energy Area Options C and D in the Gulf of Mexico

AGENCY: Bureau of Ocean Energy Management, Interior.

ACTION: Notice of availability.

SUMMARY: The Bureau of Ocean Energy Management (BOEM) announces the availability of its determination of competitive interest in the areas identified in the prior notice, “Potential Commercial Leasing for Wind Power Development on the Gulf of Mexico Outer Continental Shelf-Request for Competitive Interest,” which was published in the Federal Register on July 29, 2024. BOEM published the request for competitive interest (RFCI) after receiving an unsolicited request from Hecate Energy Gulf Wind LLC expressing interest in acquiring a commercial wind energy lease for wind energy area (WEA) options C and D in the Gulf of Mexico. In response to the RFCI, BOEM received one expression of interest from Invenergy GOM Offshore Wind LLC. Upon review of the proposals, BOEM has determined that competitive interest exists in the RFCI Areas and will move forward with the next competitive lease sale process in the Gulf of Mexico.

ADDRESSES: The determination of competitive interest memorandum is available on BOEM's website at https://www.boem.gov/renewable-energy/state-activities/gulf-mexico-activities.

FOR FURTHER INFORMATION CONTACT: Karoline DiPerna, BOEM Office of Leasing and Plans, 1201 Elmwood Park Boulevard, New Orleans, Louisiana 70123, (504) 736-5722, or karoline.diperna@boem.gov.

SUPPLEMENTARY INFORMATION:

Purpose

This public notice documents the review and analysis of materials submitted by Invenergy GOM Offshore Wind LLC (hereinafter, Invenergy) (Company #15177) expressing interest in acquiring a commercial wind energy lease in response to the RFCI published in the Federal Register on July 29, 2024 at 89 FR 60913. BOEM published the RFCI in response to an unsolicited request from Hecate Energy Gulf Wind LLC (hereafter, Hecate Energy) (Company #15166) to acquire a commercial wind energy lease in Gulf of Mexico WEA options C and D.

Background

On February 16, 2024, BOEM received an unsolicited request from Hecate Energy expressing interest in acquiring a wind energy lease for WEA options C and D. After determining that Hecate Energy is qualified to hold a wind energy lease in these areas, BOEM published an RFCI pursuant to subsection 8(p)(3) of the Outer Continental Shelf (OCS) Lands Act (43 U.S.C. 1337(p)(3)) and BOEM's implementing regulations at 30 CFR 585.231. Subsection 8(p)(3) of the OCS Lands Act requires OCS renewable energy leases, easements, and rights-of-way to be issued “on a competitive basis unless the Secretary determines after public notice of a lease, easement, or right-of-way that there is no competitive interest.” The RFCI provided public notice of Hecate Energy's unsolicited lease request and invited the submission of indications of competitive interest in commercial wind energy leases within the RFCI areas as well as stakeholder feedback. The RFCI provided that if BOEM received one or more indications of competitive interest from qualified entities that wish to develop a commercial wind energy project in the RFCI areas, BOEM may decide to move forward with a competitive lease issuance process following the procedures set forth in 30 CFR 585.210 through 585.226. Based on those procedures, if BOEM receives no competing expressions of interest from qualified companies, BOEM can decide to move forward with the lease issuance process using the noncompetitive procedures contained in 30 CFR 585.231.

RFCI Response

BOEM received 18 comments during the RFCI comment period, including one expression of interest from Invenergy. Invenergy is qualified legally, financially, and technically for this specific submission pursuant to 30 CFR 585.107 and 585.108. Many of the comments addressed concerns about the suitability of the RFCI areas for leasing. To the extent they are relevant, BOEM will take all the comments it received during the RFCI comment period into consideration as it moves forward with the competitive leasing process.

Findings

BOEM has deemed both Hecate Energy and Invenergy to be legally, technically, and financially qualified to hold an OCS renewable energy lease in the Gulf of Mexico. Their submittals included all the required information outlined in the RFCI and 30 CFR 585.231.

Hecate Energy's proposed project would consist of up to 133 fixed-bottom wind turbine generators (WTGs), each with a capacity of 15-23 megawatts (MW), with an overall maximum capacity of approximately 2,000 MW. Each turbine would be deployed on fixed monopile or jacket foundation types. Hecate Energy narrowed its selections to three points of interconnection within Texas and Louisiana and continues to examine 12 potential landfall locations with paths to three designated substations. Export cables would run separately from each of the two lease areas, or the lease areas would be joined offshore with one substation and one central export cable. Hecate Energy's full application can be found online at https://www.boem.gov/renewable-energy/state-activities/gulf-mexico-activities.

Invenergy's proposed project would consist of up to 140 competitively selected and commercially available turbines, with expected capacities of more than 15 MW, for a total project capacity of up to 2,500 MW. WTG units would be connected via inter-array cables to 1-4 offshore substations, which would connect to an offshore export cable that would carry the power to shore. Structures would be designed to international standards, such as those from the International Electrotechnical Commission, to ensure they can maintain structural reliability in high load cases. Invenergy's full expression of interest can be found online at https://www.boem.gov/renewable-energy/state-activities/gulf-mexico-activities.

Based on the information provided to BOEM in the unsolicited lease application from Hecate Energy and the response to the RFCI from Invenergy, BOEM finds that both qualified entities have submitted all the information that is required by the Department regulations (30 CFR 585.231); therefore, BOEM finds there is competitive interest in WEA options C and D. As a result of this finding, BOEM will move forward with the competitive lease issuance process following the procedures set forth in 30 CFR 585.210 through 585.226, including holding the next competitive lease sale in the Gulf of Mexico as soon as 2026.

Elizabeth Klein,
Director, Bureau of Ocean Energy Management.

[FR Doc. 2024-29358 Filed 12-12-24; 8:45 am]

BILLING CODE 4340-98-P